NATIONAL COUNCIL ON DISABILITY

Sunshine Act Meetings

Type: Quarterly Meeting.

Date and Time: January 29-31, 2007, 9 a.m.-5 p.m.

Location: Town and Country Resort and Convention Center, 500 Hotel Circle North, San Diego, California.

Status: January 29, 2007, 9 a.m.-3:45 p.m.—Open.

January 29, 2007, 3:45 p.m-4:30 p.m.—Closed.

January 30-31, 2007, 9 a.m.-5 p.m.—Open.

Agenda: Public Comments; Department of Defense, Computer/Electronic Accommodations Program Presentation; Veterans' Panel Presentation and Discussion; Livable Communities Panel Presentation; Foster Care Panel Presentation; Reports from the Chairperson and the Acting Co-Executive Directors; Team Reports; Unfinished Business; New Business; Announcements; Adjournment

Sunshine Act Meeting Contact: Mark S. Quigley, Director of Communications, NCD, 1331 F Street, NW., Suite 850, Washington, DC 20004; 202-272-2004 (voice), 202-272-2074 (TTY), 202-272-2022 (fax).

Agency Mission: NCD is an independent Federal agency making recommendations to the President and Congress to enhance the quality of life for all Americans with disabilities and their families. NCD is composed of 15 members appointed by the President and confirmed by the U.S. Senate.

Accommodations: Those needing reasonable accommodations should notify NCD immediately.

Language Translation: In accordance with E.O. 13166, Improving Access to Services for Persons with Limited English Proficiency, those people with disabilities who are limited English proficient and seek translation services for these meetings should notify NCD immediately.

Dated: January 18, 2007.
Mark S. Quigley,
Acting Co-Executive Director.

[FR Doc. 07-324 Filed 1-22-07; 2:21 pm]

BILLING CODE 6820-MA-P